DEPARTMENT OF ENERGY

Federal Energy Regulatory Commission

[Project No. 2894-013]

Flambeau Hydro, LLC; Notice Soliciting Scoping Comments

Take notice that the following hydroelectric application has been filed with the Commission and is available for public inspection.

a. Type of Application: Subsequent License.

b. Project No.: P-2894-013.

c. Date filed: December 31, 2018.

d. Applicant: Flambeau Hydro, LLC.

e. Name of Project: Black Brook Hydroelectric Project.

f. Location: The existing project is located on the Apple River near the City of Amery, Polk County, Wisconsin.

g. Filed Pursuant to: Federal Power Act 16 U.S.C. 791(a)-825(r).

h. Applicant Contact: Mr. Jason P. Kreuscher, Vice President, Renewable World Energies, LLC, 100 S State Street, P.O. Box 264, Neshkoro, WI 54960; (855) 994-93376 ext 102; or email at jason@rwehydro.com.

i. FERC Contact: Michael Davis at (202) 502-8339; or michael.davis@ferc.gov.

j. Deadline for filing scoping comments: September 13, 2019. The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2894-013.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. Project Description: Black Brook Project consists of the following existing facilities: (1) A 131-foot-long by 32-foot-high concrete gravity dam with three 12-foot-high by 12-foot-wide radial gates, a 32.5-foot-wide by 23.6-foot-high overflow section with a 6-inch flashboard, a 315-foot-long by 12-foot-wide by 8.3-foot-high left embankment, and a 75-foot-long by 38.5-foot-wide by 31.2-foot-high right embankment; (2) a 10-foot-long by 3.17-foot-wide by 15-foot-high reinforced concrete intake structure containing two 7-foot-wide by 12-foot-high steel dewatering gates and two 65-degree inclined 16-foot-wide by 15-foot-high trash racks with a 1.5-inch clear-bar spacing; (3) a cement block powerhouse with two generating units providing a total of 0.645 megawatt of installed capacity; (4) a tailrace; (5) a 13.2-kilovolt (kV) substation facility; (6) a 20-foot-long, 2,400-volt transmission line and a 1.25-mile-long, 13.2-kV transmission line; and (7) appurtenant facilities. The project has a normal pool elevation of 1045.47 feet National Geodetic Vertical Datum 1988 with a surface area of about 98 acres and no usable storage capacity. The project generates about 7,336 megawatt-hours annually.

m. A copy of the application is available for review at the Commission in the Public Reference Room or may be viewed on the Commission's website at http://www.ferc.gov using the eLibrary link. Enter the docket number excluding the last three digits in the docket number field to address the document. For assistance, contact FERC Online Support. A copy is available for inspection and reproduction at the address in Item H above.

n. You may also register online at http://www.ferc.gov/docs-filing/esubscription.asp to be notified via email of new filings and issuances related to this or other pending projects. For assistance, contact FERC Online Support.

o. Scoping Process: The Commission staff intends to prepare a single Environmental Assessment (EA) for the project in accordance with the National Environmental Policy Act. The EA will consider both site-specific and cumulative environmental impacts and reasonable alternatives to the proposed action.

At this time, we do not anticipate holding on-site public or agency scoping meetings. Instead, we are soliciting your comments and suggestions on the preliminary list of issues and alternatives to be addressed in the EA, as described in scoping document 1 (SD1), issued August 14, 2019.

Copies of the SD1 outlining the subject areas to be addressed in the EA were distributed to the parties on the Commission's mailing list and the applicant's distribution list. Copies of SD1 may be viewed on the web at http://www.ferc.gov using the eLibrary link. Enter the docket number excluding the last three digits in the docket number field to access the document. For assistance, call 1-866-208-3676 or for TTY, (202) 502-8659.

Dated: August 14, 2019.
Kimberly D. Bose,
Secretary.

[FR Doc. 2019-17899 Filed 8-19-19; 8:45 am]

BILLING CODE 6717-01-P